DEPARTMENT OF COMMERCE

International Trade Administration

[C-475-819]

Certain Pasta From Italy: Notice of Extension of Time Limit for the 1998 Countervailing Duty Administrative Review

AGENCY: Import Administration, International Trade Administration, Department of Commerce.

SUMMARY: The Department of Commerce is extending the time limit for the final results of the third review of the countervailing duty order on certain pasta from Italy. The period of review is January 1 through December 31, 1998.

EFFECTIVE DATE: October 13, 2000.

FOR FURTHER INFORMATION CONTACT: Craig Matney or Annika O'Hara, Office of AD/CVD Enforcement I, Import Administration, U.S. Department of Commerce, 14th Street and Constitution Avenue, N.W., Washington, D.C. 20230; telephone (202) 482-1778 or (202) 482-3798, respectively.

SUPPLEMENTAL INFORMATION:

Applicable Statute

Unless otherwise indicated, all citations to the statute are references to the provisions effective January 1, 1995, the effective date of the amendments made to the Tariff Act of 1930 (the Act) by the Uruguay Round Agreements Act. Unless otherwise indicated, all citations to the Department of Commerce's (the Department) regulations are to 19 CFR part 351 (1999).

Background

The preliminary results of this review were published in the Federal Register on August 8, 2000 (65 FR 48479). The final results are currently due no later than December 6, 2000.

Postponement

Certain recent decisions by the United States Court of Appeals for the Federal Circuit have raised significant legal issues which must be considered in this case. Because of the complexity of these issues, it is not practicable to complete this review within the time limit mandated by section 751(a)(3)(A) of the Act. Accordingly, the Department is extending the time limit for completion of these final results for 60 days (i.e., until February 5, 2001).

This extension is in accordance with section 751(a)(3)(A) of the Act and 19 CFR 351.213(h)(2).

October 5, 2000.
Louis Apple,
Acting Deputy Assistant Secretary for Import Administration.

[FR Doc. 00-26382 Filed 10-12-00; 8:45 am]

BILLING CODE 3510-DS-P